DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee and Subcommittee Meetings.

Dates and Times: Tuesday, September 27, 2016: 8:30 a.m.-5:00 p.m.—Population Health Subcommittee Workshop; Wednesday, September 28, 2016: 9:00 a.m.-5:30 p.m.—Full Committee Meeting; Thursday, September 29, 2016; 8:15 a.m.-5:00 p.m.—Full Committee Meeting.

Place: The public workshop on September 27, 2016 will be held at the Marriott Courtyard Washington, 1325 2nd Street NE., Washington, DC 20002. The public meeting on September 28 and September 29 will be held at the U.S. Department of Health and Human Services, Hubert H. Humphrey Building, Room 705-A, 200 Independence Avenue SW., Washington, DC 20024.

Status: Open.

Purpose: On September 27, 2016, the Population Health Subcommittee will hold a workshop, Using Sub-county Data to Promote Multi-sector Approaches for Community Health and Well-being: Identifying Gaps and Opportunities to help NCVHS advance recommendations to HHS in three areas: (1) Enhance public/private collaboration to increase availability of sub-county level data; (2) improve HHS data collection to focus on sub-county data; and (3) better align federal small area data generation initiatives. Workshop participants will include leaders of multi-sectoral partnerships focused on sub-county health and well-being improvement projects, key staff of federal and statistical agencies, and scholars, data scientists, and those with special interest in data-centered approaches to improving community health and well-being.

At the September 28-29, 2016 meeting the Committee will hear presentations and hold discussions on several health data policy topics. The Committee will receive updates from the Department, including from the Office of the National Coordinator and the Centers for Medicare and Medicaid Services. The Committee will discuss and take action on three items: (1) A report from NCVHS's ACA Review Committee that will focus on findings from its June 2015 hearing on Adopted Transaction Standards, Operating Rules, Code Sets & Identifiers; (2) a recommendation letter created from testimonies heard at the Minimum Necessary hearing held in June 16, 2016 by the Subcommittee on Privacy, Confidentiality and Security; and (3) a recommendation letter based on the June 17, 2016 hearing on Claims-based Databases for Policy Development and Evaluation. In addition, the Committee will discuss the future of vital statistics data with a briefing from NCHS's Division of Vital and Health Statistics. Subcommittees of the NCVHS will finalize action items for full Committee approval on day two of the meeting and plan for future initiatives. The Committee will further review its strategic plan for 2016 and all Subcommittees will report on work plans and next steps.

After the plenary session adjourns, the Work Group on HHS Data Access and Use will continue strategic discussions on building a framework for guiding principles for data access and use.

Contact Person for More Information: Substantive program information may be obtained from Rebecca Hines, Executive Secretary, NCVHS, National Center for Health Statistics, Centers for Disease Control and Prevention, 3311 Toledo Road, Hyattsville, Maryland 20782, telephone (301) 458-4715. Summaries of meetings and a roster of committee members are available on the NCVHS home page of the HHS Web site: http://www.ncvhs.hhs.gov/, where further information including an agenda and information for remote audio access to the meetings will be posted.

Should you require reasonable accommodation, please contact the CDC Office of Equal Employment Opportunity on (301) 458-4EEO (4336) as soon as possible.

Dated: August 12, 2016.
James Scanlon,
Deputy Assistant Secretary for Planning and Evaluation, Office of the Assistant Secretary for Planning and Evaluation.

[FR Doc. 2016-20512 Filed 8-25-16; 8:45 am]

BILLING CODE 4151-05-P